DEPARTMENT OF TRANSPORTATION

Federal Aviation Administration

14 CFR Part 71

[Docket No. FAA-2024-0183; Airspace Docket No. 23-AAL-67]

RIN 2120-AA66

Modification of Class E Airspace; Chenega Bay Airport, Chenega, AK

AGENCY: Federal Aviation Administration (FAA), DOT.

ACTION: Final rule.

SUMMARY: This action modifies the Class E airspace extending upward from 700 feet above the surface of the earth due to the Area Navigation (RNAV) (Global Positioning System [GPS])-A approach being re-oriented to the north at Chenega Bay Airport, Chenega, AK. Additionally, this action updates the administrative portion of the airport's Class E airspace legal description. These modifications support the safety and management of instrument flight rules (IFR) operations at the airport.

DATES: Effective date 0901 UTC, February 20, 2025. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11J, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Nathan A. Chaffman, Federal Aviation Administration, Western Service Center, Operations Support Group, 2200 S 216th Street, Des Moines, WA 98198; telephone (206) 231-3460.

SUPPLEMENTARY INFORMATION:

Authority for This Rulemaking

The FAA's authority to issue rules regarding aviation safety is found in Title 49 of the United States Code. Subtitle I, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies Class E airspace to support IFR operations at Chenega Bay Airport, Chenega, AK.

History

The FAA published a notice of proposed rulemaking for Docket No. FAA-2024-0183 in the Federal Register (89 FR 67915; August 22, 2024) proposing to modify Class E airspace at Chenega Bay Airport, Chenega, AK. Interested parties were invited to participate in this rulemaking effort by submitting written comments on the proposal to the FAA. No comments were received.

Incorporation by Reference

Class E5 airspace areas are published in paragraph 6005 of FAA Order JO 7400.11, Airspace Designations and Reporting Points, which is incorporated by reference in 14 CFR 71.1 on an annual basis. This document amends the current version of that order, FAA Order JO 7400.11J, dated July 31, 2024, and effective September 15, 2024. FAA Order JO 7400.11J is publicly available as listed in the ADDRESSES section of this document. These amendments will be published in the next update to FAA Order JO 7400.11.

FAA Order JO 7400.11J lists Class A, B, C, D, and E airspace areas, air traffic service routes, and reporting points.

The Rule

This action amends 14 CFR part 71 by modifying the Class E airspace extending upward from 700 feet above the surface at Chenega Bay Airport, Chenega, AK.

The Class E airspace extending upward from 700 feet above the surface of the earth at the airport within a 2-mile radius is modified to only contain the arrival procedure to the final approach fix (FAF), and to contain the departure procedure starting at JODRO—given that arrivals are visual flight rules (VFR) after the FAF, and departures are VFR until reaching JODRO.

In addition, the Chenega, AK, Class E airspace extending upward from 700 feet above the surface of the earth is extended to the north of the airport to contain arriving IFR operations below 1,500 feet above the surface until reaching the FAF.

Finally, the FAA is modifying the airport's associated legal description to update the city name within the text header from “Chenega Bay, AK” to “Chenega, AK.”

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR part 71.1 of FAA Order JO 7400.11J, Airspace Designations and Reporting Points, dated July 31, 2024, and effective September 15, 2024, is amended as follows:

Paragraph 6005 Class E Airspace Areas Extending Upward From 700 Feet or More Above the Surface of the Earth.

* * * * *

AAL AK E5 Chenega, AK [Amended]

Chenega Bay Airport, AK

(Lat. 60°04′43″ N, long. 147°59′41″ W)

That airspace extending upward from 700 feet above the surface within an area bounded by a line beginning at lat. 60°11′28″ N, long. 148°4′30″ W; to lat. 60°18′43″ N, long. 147°59′37″ W; to lat. 60°18′23″ N, long 147°55′19″ W; to lat. 60°14′30″ N, long. 147°56′37″ W; to lat. 60°5′57″ N, long. 147°37′29″ W; to lat. 60°3′26″ N, long. 147°42′48″ W; thence to the point of beginning.

* * * * *

Issued in Des Moines, Washington, on November 25, 2024.
B.G. Chew,
Group Manager, Operations Support Group, Western Service Center.

[FR Doc. 2024-28135 Filed 11-29-24; 8:45 am]

BILLING CODE 4910-13-P